DEPARTMENT OF STATE

[Public Notice 8603]

Meeting of the United States-Panama Environmental Affairs Council and Environmental Cooperation Commission and Request for Comments on Meeting Agendas and the Work Program for Environmental Cooperation

ACTION: Notice of meetings of the United States-Panama Environmental Affairs Council and Environmental Cooperation Commission, and request for comments.

SUMMARY: The Department of State and the Office of the United States Trade Representative (USTR) are providing notice that the United States and Panama intend to hold the first meeting of the Environmental Affairs Council (the “Council”) and the first meeting of the Environmental Cooperation Commission (the “Commission”) on January 29, 2014 in Panama City, Panama. The purpose of the Council meeting is to review implementation of Chapter 17 (Environment) of the United States-Panama Trade Promotion Agreement (TPA) and the purpose of the Commission meeting is to review implementation of the United States-Panama Environmental Cooperation Agreement (ECA) and approve a Work Program for implementing the ECA. The Department of State and USTR invite interested organizations and members of the public to attend the public session of the meetings and comment on any items that should be included on the meeting agendas. The Department of State also invites suggestions for items to be included in the Work Program.

During the Council meeting, the United States and Panama (collectively the “Parties”) will discuss their respective implementation of and progress under Chapter 17. During the Commission meeting, the Parties will provide an overview of environmental cooperation, and present and approve the inaugural 2014-2017 Environmental Cooperation Work Program.

DATES: The public session of the Council and Commission meetings will be held on January 29, 2014, from 3:00-5:30 p.m. We request comments and suggestions in writing no later than January 22, 2014.

ADDRESSES: The public session of the Council and Commission meetings will be held at the Holiday Inn Clayton, Panama City, Panama. Please submit written comments and suggestions to both:

(1) Lauren C. Stowe, Office of Environmental Quality and Transboundary Issues, U.S. Department of State, by electronic mail at StoweLC@state.gov with the subject line “U.S.-Panama EAC/ECC Meeting.”; and

(2) Sarah Stewart, Office of Environment and Natural Resources, Office of the United States Trade Representative, by electronic mail at Sarah_Stewart@ustr.eop.gov with the subject line “U.S.-Panama EAC/ECC Meeting.”

You can view and comment on this notice by going to: http://www.regulations.gov/#!home and searching on docket number: DOS-2014-0001

FOR FURTHER INFORMATION CONTACT: Lauren C. Stowe, Telephone (202) 647- 4833 or Sarah Stewart, Telephone (202) 395-3858.

SUPPLEMENTARY INFORMATION: The United States-Panama TPA entered into force on October 31, 2012. Article 17.6 of the TPA establishes an Environmental Affairs Council to oversee the implementation of, and review progress under, Chapter 17. The United States-Panama ECA entered into force on December 5, 2013. Article III of the ECA establishes an Environmental Cooperation Commission and makes the Commission responsible for developing a Work Program. Article 17.6 of the TPA and Article V of the ECA require that meetings of the Council and Commission respectively include a public session, unless the Parties otherwise agree.

The Department of State is requesting suggestions for cooperative environmental activities to consider for inclusion in the first Environmental Cooperation Work Program. For additional information, please visit: http://www.state.gov/e/oes/eqt/trade/index.htm

Disclaimer: This Public Notice is a request for comments and suggestions, and is not a request for applications. No granting of money is directly associated with this request for suggestions for the Work Program. There is no expectation of resources or funding associated with any comments or suggestions for the Work Program.

If you would like to attend the public session or provide comments, please notify Lauren Stowe at the email address listed above under the heading ADDRESSES. Please include your full name and identify any organization or group you represent. As you consider preparing comments, we encourage you to refer to:

• Chapter 17 of the TPA,

• The Final Environmental Review of the TPA, and

• The ECA.

These documents are available at: http://www.ustr.gov/trade-agreements/free-trade-agreements/panama-tpa and http://www.state.gov/e/oes/eqt/trade/c51527.htm.

Dated: January 14, 2014.
Deborah Klepp,
Director, Office of Environmental Quality and Transboundary Issues, Department of State.

[FR Doc. 2014-01313 Filed 1-22-14; 8:45 am]

BILLING CODE 4710-09-P